ENVIRONMENTAL PROTECTION AGENCY

[OW-2003-0030; FRL-7918-8]

Agency Information Collection Activities: Proposed Collection; Comment Request; Information Collection Request for Great Lakes Water Quality Guidance Reporting Requirements, EPA ICR Number 1639.04, OMB Control Number 2040-0180

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to renew an existing approved collection. This ICR is scheduled to expire on May 31, 2005. However, EPA is requesting a three-month extension to complete this renewal process. Before submitting the ICR to OMB for review and approval, EPA is soliciting comments on specific aspects of the proposed information collection as described below.

DATES: Comments must be submitted on or before August 1, 2005.

ADDRESSES: Submit your comments, referencing docket ID number OW-2003-0030, to EPA online using EDOCKET (our preferred method), by e-mail to ow-docket@epa.gov, or by mail to: EPA Docket Center, Environmental Protection Agency, Water Docket, Mail Code 4101T, 1200 Pennsylvania Ave., NW., Washington, DC 20460.

FOR FURTHER INFORMATION CONTACT: Lynn Stabenfeldt, Office of Wastewater Management, 4201M, Environmental Protection Agency, 1200 Pennsylvania Ave., NW., Washington, DC 20460; telephone number: (202) 564-0602; fax number: (202) 501-2399; e-mail address: stabenfeldt.lynn@epa.gov.

SUPPLEMENTARY INFORMATION: EPA has established a public docket for this ICR under Docket ID number OW-2003-0030, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are (1) industries discharging toxic pollutants to waters in the Great Lakes System as defined in 40 CFR 132.2 and (2) publicly-owned treatment works discharging toxic pollutants to waters of the Great Lakes System as defined in 40 CFR 132.2.

Title: Information Collection Request for Great Lakes Water Quality Guidance Reporting Requirements (OMB Control No. 2040-0180; EPA ICR No.1639.04, expiring May 31, 2005).

Abstract: The primary objective of the Clean Water Act (CWA) is “to restore and maintain the chemical, physical and biological integrity of the nation's waters” (Section 101(a)). CWA Section 402 establishes the National Pollutant Discharge Elimination System (NPDES) permit program to regulate the discharge of any pollutant or combination of pollutants from point sources into the waters of the United States. CWA Section 402(a), as amended, authorizes the EPA Administrator to issue permits for the discharge of pollutants if those discharges meet the following requirements:

• All applicable requirements of CWA Sections 301, 302, 306, 307, 308, and 403; and

• Any conditions the Administrator determines are necessary to carry out the provisions and objectives of the CWA.

Section 101 of the Great Lakes Critical Programs Act (CPA) amends Section 118 of the CWA and directed EPA to publish water quality guidance for the Great Lakes System. Provisions of the Guidance are codified in 40 CFR part 132. The Guidance establishes minimum water quality criteria, implementation procedures, and antidegradation provisions for the Great Lakes System.

Permitting authorities currently require dischargers to provide information such as the name, location, and description of facilities to identify the facilities that require permits. EPA and authorized NPDES States store much of this basic information in the Permit Compliance System (PCS) database. PCS provides EPA with a nationwide inventory of NPDES permit holders. EPA Headquarters uses the information contained in the PCS to develop reports on permit issuance, backlogs, and compliance rates. The Agency also uses the information to respond to public and Congressional inquiries, develop and guide its policies, formulate its budgets, assist States in acquiring authority for permitting programs, and manage its programs to ensure national consistency in permitting.

NPDES permit applications and requests for supplemental information currently require information about wastewater treatment systems, pollutants, discharge rates and volumes, whole effluent toxicity testing and other data. Additional information collection requirements that may be necessary to implement State, Tribal, or EPA promulgated provisions consistent with the Great Lakes Guidance include: (1) Monitoring (pollutant-specific and whole effluent toxicity or WET); (2) pollutant minimization programs; (3) bioassays to support the development of water quality criteria; (4) antidegradation policy/demonstrations; and, (5) regulatory relief options (e.g., variances from water quality criteria).

This information may be used to ensure compliance with provisions consistent with the Guidance and re-evaluate existing permit conditions and monitoring requirements. Data on discharges is entered into STORET and PCS, EPA's databases for ambient water quality data and NPDES permits, respectively. Results of water quality criteria testing will be entered into an EPA Information Clearinghouse database. Some of the burden hours associated with applications in the existing ICR that EPA is renewing have been placed in the Water Quality Standards ICR (OMB Control #2040-0049, EPA #0988.08, to expire August 31, 2005).

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: This ICR provides an estimate of the burden and costs associated with implementation of the final Great Lakes Water Quality Guidance. The total annual burden to all respondents is estimated to be 29,523 with associated costs of $3,121,930. The total annual burden includes an estimated average annual reporting burden of 7 hours per discharger with a corresponding response frequency that varies depending on the discharger's effluent characteristics. The estimated average annual labor cost per discharger is $392 with average annual operations and maintenance costs per discharger estimated at $408. The estimated annual average burden hours for states is 274 hours with a corresponding labor cost of $10,776. The estimated number of respondents for this renewal ICR is 3,795. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: May 20, 2005.
James A. Hanlon,
Director, Office of Wastewater Management.

[FR Doc. 05-10771 Filed 5-27-05; 8:45 am]

BILLING CODE 6560-50-P